DEPARTMENT OF COMMERCE

National Oceanic and Atmospheric Administration

50 CFR Part 679

[Docket No. 110207103-2041-02]

RIN 0648-BA80

Fisheries of the Exclusive Economic Zone Off Alaska; Chinook Salmon Bycatch Management in the Bering Sea Pollock Fishery; Economic Data Collection; Correction

AGENCY: National Marine Fisheries Service (NMFS), National Oceanic and Atmospheric Administration (NOAA), Commerce.

ACTION: Final rule; correction.

SUMMARY: This action corrects an error in paragraph numbering in the final rule pertaining to Fisheries of the Exclusive Economic Zone Off Alaska; Chinook Salmon Bycatch Management in the Bering Sea Pollock Fishery; Economic Data Collection published on February 3, 2012. This correction is intended to clarify regulatory text.

DATES: Effective March 9, 2012 and is applicable beginning March 5, 2012.

FOR FURTHER INFORMATION CONTACT: Patsy A. Bearden, (907) 586-7008, or Jeff Hartman, (907) 586-7442.

SUPPLEMENTARY INFORMATION:

Background

On February 3, 2012, NMFS published a final rule in the Federal Register (77 FR 5389) to implement the Chinook Salmon Economic Data Report Program, which will evaluate the effectiveness of Chinook salmon bycatch management measures for the Bering Sea pollock fishery that were implemented under Amendment 91 to the Fishery Management Plan for Groundfish of the Bering Sea and Aleutian Islands Management Area. This final rule added a regulatory provision at 50 CFR 679.5(e)(6)(i)(A)(12), which describes deliveries from catcher vessels directed fishing for pollock in the Bering Sea in which the operator of the catcher vessel moved fishing location primarily to avoid Chinook salmon bycatch. However, a final rule implementing Amendment 83 to the Fishery Management Plan for Groundfish of the Gulf of Alaska previously had added a § 679.5(e)(6)(i)(A)(12), which describes the receipt of groundfish deliveries in the marine municipal boundaries of a Community Quota Entity community. (76 FR 74640; December 1, 2011). Thus, there are two different regulatory paragraphs numbered § 679.5(e)(6)(i)(A)(12).

Need for Correction

If this error is not corrected, the regulatory text at § 679.5(e)(6)(i)(A)(12) implementing Amendment 83 will be removed and replaced by the regulatory text implementing the Chinook Salmon Economic Data Report Program. Therefore, this correction is necessary to fully implement Amendment 83. This action corrects the final rule implementing the Chinook Salmon Economic Data Report Program by renumbering § 679.5(e)(6)(i)(A)(12) as § 679.5(e)(6)(i)(A)(13).

The Assistant Administrator for Fisheries, NOAA (AA), finds good cause pursuant to 5 U.S.C. 553(b)(B) to waive prior notice and the opportunity for public comment because it would be unnecessary and contrary to the public interest. This error must be corrected immediately to fully implement Amendment 83. Left uncorrected, the regulatory text at § 679.5(e)(6)(i)(A)(12) implementing Amendment 83 will be removed and replaced by the text implementing the Chinook Salmon Economic Data Report program The correction will ensure that regulations in this section include all of the regulatory text intended by the two programs.

If the effective date for this correction is delayed to solicit prior public comment, this technical error will not be corrected by the effective date of this final rule, thereby undermining the conservation and management objectives of the fishery management plans. Moreover, the public has already had opportunity to comment on both provisions included in the two final rules. Thus, further public comment is unnecessary.

The AA further finds, pursuant to 5 U.S.C.553(d)(3), good cause to waive the thirty (30) day delayed effectiveness period for the reasons stated above.

NMFS is correcting this error and is not making substantive changes to the rule document published on February 3, 2012 (77 FR 5389).

Correction

In FR Doc. 2012-2361, appearing on page 5389 in the Federal Register of Friday, February 3, 2012, the following corrections are made:

§ 679.5 [Corrected]

1. On page 5394, in the second column, in the second line of amendatory instruction 5.b., correct the reference ” (e)(6)(i)(A)(12)” to read “(e)(6)(i)(A)(13).”

2. On page 5394, in the third column, correct the paragraph reference ” (e)(6)(i)(A)(12)” to read ” (e)(6)(i)(A)(13).”

Dated: March 6, 2012.
Alan D. Risenhoover,
Acting Deputy Assistant Administrator for Regulatory Programs, National Marine Fisheries Service.

[FR Doc. 2012-5817 Filed 3-8-12; 8:45 am]

BILLING CODE 3510-22-P